DEPARTMENT OF COMMERCE

National Oceanic and Atmospheric Administration

[RTID 0648-XD768]

Atlantic Highly Migratory Species; Atlantic Bluefin Tuna Fishery Public Listening Session Regarding the Harpoon Category

AGENCY: National Marine Fisheries Service (NMFS), National Oceanic and Atmospheric Administration (NOAA), Commerce.

ACTION: Notice of public meeting.

SUMMARY: NMFS will hold a public meeting to listen to concerns and gather input regarding the Atlantic Tunas Harpoon category fishery. During the meeting, stakeholders and the public may express their thoughts about harpooning practices, including concerns related to fishing activities in proximity to mobile-gear vessels and harpooning during nighttime hours.

DATES: The public meeting will be held on March 28, 2024, from 10 a.m. to 12 p.m. ET.

ADDRESSES: The meeting will be accessible via WebEx webinar/conference call. Webinar access information will be available at: https://www.fisheries.noaa.gov/event/public-listening-session-atlantic-tunas-harpoon-category-fishery.

Participants accessing the webinar are strongly encouraged to log/dial in 15 minutes prior to the meeting. Requests for sign language interpretation or other auxiliary aids should be directed to Anna Quintrell (see FOR FURTHER INFORMATION CONTACT section) at least 7 days prior to the meeting.

FOR FURTHER INFORMATION CONTACT: Anna Quintrell, anna.quintrell@noaa.gov, or Larry Redd, larry.redd@noaa.gov, at 301-427-8503.

SUPPLEMENTARY INFORMATION: Atlantic highly migratory species (HMS) fisheries, including the bluefin tuna (BFT) fisheries, are managed under the 2006 Consolidated HMS Fishery Management Plan and its amendments pursuant to the Magnuson-Stevens Fishery Conservation and Management Act (16 U.S.C. 1801 et seq.) and consistent with the Atlantic Tunas Convention Act (16 U.S.C. 971 et seq.). HMS implementing regulations are at 50 CFR part 635.

In response to petitions for rulemaking submitted in 2021 and 2023, NMFS has engaged in deliberations regarding the management of the Harpoon category fishery for BFT. The petitioners advocated for regulatory measures to limit harpoon fishing near vessels using mobile gear that is used to fish for groundfish, scallops, or clams and to restrict the deployment of floating bait for the purpose of attracting BFT to the surface for harpooning. The petitioners felt the practices were contrary to the traditional method of fishing with harpoon gear, would cause the Harpoon category quota to be filled too quickly, and would cause safety issues. The petitioners also advocated for fishing with harpoon gear only during the day and prohibiting nighttime fishing due to safety concerns.

During the September 2023 HMS Advisory Panel meeting, stakeholders were invited to provide public comment on the aforementioned petitions. NMFS recognized the significance of ongoing dialogue and indicated the possibility of further discussions on the matter in the future.

The upcoming listening session allows NMFS to hear from stakeholders and the public regarding any insights, concerns, and recommendations pertaining to the Harpoon category in general and the aforementioned petitions.

For this meeting, we anticipate hearing from the public about the following topics:

• Recent harpooning practices and techniques in the BFT fishery;

• Recent harpooning activities in the BFT fishery in proximity to mobile-gear vessels;

• The impact of nighttime harpooning; and,

• Thoughts about the potential regulatory changes regarding the Harpoon category fishery.

The public is reminded that NMFS expects participants of the meeting to conduct themselves appropriately. At the beginning of the meeting, the moderator will explain how the meeting will be conducted and how and when participants can provide comments. NMFS will structure the meeting so that all members of the public will be able to comment. Participants are expected to respect the ground rules, and those that do not may be asked to leave.

Dated: March 7, 2024.
Everett Wayne Baxter,
Acting Director, Office of Sustainable Fisheries, National Marine Fisheries Service.

[FR Doc. 2024-05299 Filed 3-12-24; 8:45 am]

BILLING CODE 3510-22-P